ENVIRONMENTAL PROTECTION AGENCY

40 CFR Parts 52 and 81

[EPA-R05-OAR-2017-0256; FRL-9971-74—Region 5]

Air Plan Approval; Ohio; Redesignation of the Fulton County Area to Attainment of the 2008 Lead Standard; Withdrawal of Direct Final Rule

AGENCY: Environmental Protection Agency (EPA).

ACTION: Withdrawal of direct final rule.

SUMMARY: Due to the receipt of an adverse comment, the Environmental Protection Agency (EPA) is withdrawing the October 18, 2017, direct final rule approving the State of Ohio's request to redesignate the Fulton County nonattainment area (Fulton County) to attainment of the 2008 National Ambient Air Quality Standards for lead.

DATES: The direct final rule published at 82 FR 48442 on October 18, 2017, is withdrawn effective December 8, 2017.

FOR FURTHER INFORMATION CONTACT: Matt Rau, Environmental Engineer, Control Strategies Section, Air Programs Branch (AR-18J), Environmental Protection Agency, Region 5, 77 West Jackson Boulevard, Chicago, Illinois 60604, (312) 886-6524, rau.matthew@epa.gov.

SUPPLEMENTARY INFORMATION: In the direct final rule, EPA stated that if adverse comments were submitted by November 17, 2017, the rule would be withdrawn and not take effect. EPA received an adverse comment prior to the close of the comment period and, therefore, is withdrawing the direct final rule. EPA will address the comment in a subsequent final action based upon the proposed action also published on October 18, 2017 (82 FR 48474). EPA will not institute a second comment period on this action.

List of Subjects

40 CFR Part 52

Environmental protection, Air pollution control, Incorporation by reference, Intergovernmental relations, Lead, Reporting and recordkeeping requirements.

40 CFR Part 81

Environmental protection, Administrative practice and procedure, Air pollution control, Designations and classifications, Intergovernmental relations, Lead, Reporting and recordkeeping requirements.

Authority: 42 U.S.C. 7401 et seq.

Dated: November 27, 2017.
Robert A. Kaplan,
Acting Regional Administrator, Region 5.

Accordingly, the amendments to 40 CFR 52.1870, 52.1893, and 81.336 published in the Federal Register on October 18, 2017 (82 FR 48442), on page 48448 are withdrawn effective December 8, 2017.

[FR Doc. 2017-26415 Filed 12-7-17; 8:45 am]

BILLING CODE 6560-50-P